DEPARTMENT OF TRANSPORTATION

Federal Aviation Administration

14 CFR Part 39

[Docket No. FAA-2025-0347; Project Identifier AD-2024-00441-T; Amendment 39-23156; AD 2025-20-03]

RIN 2120-AA64

Airworthiness Directives; The Boeing Company Airplanes

AGENCY: Federal Aviation Administration (FAA), DOT.

ACTION: Final rule.

SUMMARY: The FAA is adopting a new airworthiness directive (AD) for certain The Boeing Company Model 787-8, 787-9, and 787-10 airplanes. This AD was prompted by reports of corrosion on one or more of the eight lower fitting assemblies and adjacent lavatory components on certain lavatories. This AD requires a detailed inspection of the lower fitting assemblies and the centerline partition threshold of the lavatories for corrosion, recording on the modification record placard, and applicable on-condition actions. This AD also requires revising the existing maintenance program to incorporate a detailed inspection of the lavatory vertical side forward fittings for corrosion or damage. The FAA is issuing this AD to address the unsafe condition on these products.

DATES: This AD is effective November 6, 2025.

The Director of the Federal Register approved the incorporation by reference of a certain publication listed in this AD as of November 6, 2025.

ADDRESSES:

AD Docket: You may examine the AD docket at regulations.gov under Docket No. FAA-2025-0347; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For the Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2025-0347.

FOR FURTHER INFORMATION CONTACT: Nicole S. Tsang, Aviation Safety Engineer, FAA, 2200 South 216th St., Des Moines, WA 98198; phone: 206-231-3959; email: Nicole.S.Tsang@faa.gov.

SUPPLEMENTARY INFORMATION:

Background

The FAA issued a notice of proposed rulemaking (NPRM) to amend 14 CFR part 39 by adding an AD that would apply to certain The Boeing Company Model 787-8, 787-9, and 787-10 airplanes. The NPRM was published in the Federal Register on April 7, 2025 (90 FR 14927). The NPRM was prompted by reports of corrosion on one or more of the eight lower fitting assemblies and adjacent lavatory components on certain lavatories. In the NPRM, the FAA proposed to require a detailed inspection of the lower fitting assemblies and the centerline partition threshold of the lavatories for corrosion, recording on the modification record placard, and applicable on-condition actions. The FAA also proposed to require revising the existing maintenance program to incorporate a detailed inspection of the lavatory vertical side forward fittings for corrosion or damage. The FAA is issuing this AD to address the unsafe condition on these products.

Discussion of Final Airworthiness Directive

Comments

The FAA received comments from ProTech Aero Services Limited who supported the NPRM without change.

The FAA received additional comments from five commenters, including All Nippon Airways (All Nippon), American Airlines (American), Boeing, and an anonymous commenter. The following presents the comments received on the NPRM and the FAA's response to each comment.

Request To Exclude Certain Airplanes From the Applicability

American requested that the FAA revise the applicability of the proposed AD to exclude Model 787-8, 787-9, and 787-10 airplanes that have never been equipped with Jamco family 95/96 lavatories. American noted Boeing Special Attention Requirements Bulletin B787-81205-SB250302-00 RB, Issue 001, dated August 21, 2024, identifies airplanes that were delivered with and without the Jamco family 95/96 lavatories and airplanes known to have been modified to be equipped with the affected lavatories. American also noted the requirements bulletin includes conditions to account for airplanes that may have been modified to either remove or install the affected lavatories. Based on this, American concluded the proposed AD is only applicable to airplanes that have, or have had, Jamco family 95/96 lavatories installed, and airplanes that have never had the affected lavatories installed are exempted from the inspections specified in the proposed AD.

The FAA agrees to exclude airplanes that were neither delivered with the affected lavatories, nor equipped with the affected lavatories after delivery. These airplanes are identified as Group 3, Configuration 1, and Group 4, Configuration 3 airplanes in table 1 of the requirements bulletin, and no actions are required for those airplanes. The FAA has revised paragraph (c) of this AD accordingly.

Request To Extend the Inspection Compliance Time

United requested that the FAA extend the compliance time for the inspection by 3 months. United stated that the proposed compliance time does not allow it to schedule the inspection for all of its affected airplanes during base maintenance visits, which would force some of its airplanes out of service.

The FAA disagrees with commenter's request. The FAA assessed the risk and determined that the inspection compliance times specified in the “Compliance” paragraph of Boeing Special Attention Requirements Bulletin B787-81205-SB250302-00 RB, Issue 001, dated August 21, 2024, are appropriate to mitigate the risk. The FAA considered the safety implications and normal maintenance schedules when establishing compliance times that adequately address the unsafe condition of this AD. However, under the provisions of paragraph (k) of this AD, the FAA will consider requests for approval of an extension of the compliance time if sufficient data are submitted to substantiate that the new compliance time would provide an acceptable level of safety. The FAA has not changed the AD in this regard.

Request To Coordinate Inspection Intervals With Operators

A commenter requested that the FAA closely coordinate with operators to carefully define the inspection intervals to ensure operators can achieve compliance with minimal possible operational disruption.

The FAA acknowledges the commenter's request but has not revised the AD in this regard for the same reasons noted in the FAA's response to the previous comment.

Request To Revise Compliance Time for Placard Recording and Maintenance Plan Revision

Boeing requested the FAA add a note to paragraph (g) of the proposed AD to allow accomplishing the placard recording (condition 1, action 1 and condition 2, action 2) and maintenance plan revision (condition 1, action 2 and condition 2, action 3) within 38 months after completing the initial inspection. Boeing noted that Boeing Special Attention Requirements Bulletin B787-81205-SB250302-00 RB, Issue 001, dated August 21, 2024, specifies those actions should be completed before further flight after the inspection. Boeing, however, asserted those actions are not critical to flight safety and should not be required to be done before further flight for an airplane to return to service. Boeing stated it has no plans to revise the requirements bulletin to account for this.

The FAA partially agrees with the commenter's request. The FAA agrees that the placard recording and maintenance plan revision are administrative changes that are not critical to flight safety. However, the FAA disagrees with extending the compliance time to 38 months after accomplishing the inspection. The FAA has determined that extending the compliance time to 90 days after accomplishing the inspection or repair instructions, as applicable, is an appropriate time for accomplishing the administrative actions. Accordingly, the FAA has added a new exception to paragraph (h)(2) of this AD.

Request To Reference Interim Actions

All Nippon requested that the FAA revise the proposed AD to reference any interim action, such as a service bulletin or other relevant measure, if one is issued before the proposed AD is finalized.

The FAA acknowledges the commenter's request, but no change is necessary to the AD in this regard. The FAA has determined no later service information or any other measure that would affect AD compliance has been issued in the interim. The FAA has not changed the AD in this regard.

Request for an Alternative Method of Compliance (AMOC)

Boeing requested that the FAA revise the proposed AD to allow accomplishment of the inspection in accordance with maintenance review board report (MRBR) Item Number 25-185-00 for lavatories with no previous repairs as an AMOC to accomplishing the inspection in accordance with paragraph 3.A., step (3) of the Accomplishment Instructions of Jamco Service Bulletin B80-25-4112, Revision 2, dated April 24, 2024. Boeing stated that the inspections in the Jamco service bulletin and MRBR item are identical, and that some operators accomplished the inspections in accordance with the MRBR item prior to the service bulletin release, and those operators would like to receive credit.

The FAA partially agrees. The FAA disagrees with adding an AMOC to this AD but agrees that an inspection accomplished before the effective date of this AD using MRBR Item Number 25-185-00 for lavatories with no previous repairs is acceptable for compliance with the inspection required by paragraph (g) of this AD. Accordingly, the FAA has added a new paragraph (j) to this AD allowing credit. The FAA notes that operators may apply for an AMOC in accordance with the provisions in paragraph (k) of this AD to use MRBR Item Number 25-185-00 as a method of compliance after the effective date of this AD.

Request To Revise an Exception to the Requirements Bulletin

Boeing requested that the FAA revise paragraph (h)(2) of the proposed AD to state, where Boeing Special Attention Requirements Bulletin B787-81205-SB250302-00 RB, Issue 001, dated August 21, 2024, specifies contacting Boeing for repair instructions, and if those instructions include a modification to the maintenance actions or intervals specified in section (g) of the proposed AD, then the proposed AD requires doing the repair using a method approved in accordance with the procedures specified in paragraph (j) of the proposed AD. Boeing stated repairs that do not change the inspection method or interval specified in the requirements bulletin comply with the proposed AD.

The FAA disagrees with Boeing's request. The exception in paragraph (h)(3) of this AD (corresponding to paragraph (h)(2) of the proposed AD) is intended to require an AMOC anytime a manufacturer needs to be contacted for repair instructions. Adopting the requested wording would allow operators to circumvent the procedures in 14 CFR 39.19, as specified in paragraph (k) of this AD. Since the requirements bulletin does not provide repair instructions or point to another source for repair instructions, such as an aircraft maintenance manual (AMM), an operator will need to contact Boeing if corrosion is found, and that should be done according to the procedures in paragraph (k) of this AD to ensure the FAA has awareness of all repair instructions. If certain corrosion findings can be corrected using existing procedures like an AMM task, then this can be addressed with a revision to the service information. If alternative repair instructions that go beyond what is specified in the current service information are needed to address the unsafe condition, and those repairs involve changing the inspection method or interval, then the service information can be revised to specify contacting Boeing for repair instructions for that situation. The FAA has not revised the AD in this regard.

Request To Clarify Inspection Procedures for Previously Repaired Fittings

Boeing requested the FAA add a new exception to paragraph (h) of the proposed AD to clarify that the detailed inspection in paragraph 3.A, step (4) of Jamco Service Bulletin B80-25-4112, Revision 2, dated April 24, 2024, is required for Jamco lavatories with basic part number (P/N) B80095( ) or B80096( ) on which a previous repair has been completed on a lavatory fitting. Boeing stated that Boeing Service bulletin B787-81205-SB250302-00 only points to paragraph 3.A, step (3) of the Jamco service bulletin as a method of compliance for the detailed inspection, but that step is only applicable to lavatories with no previous repairs of lavatory fittings. Boeing also stated it has no plans to revise the corresponding service bulletin to account for this.

The FAA partially agrees. The FAA agrees that paragraph 3.A., step (4) of the Jamco service bulletin is applicable to lavatories with a previous repair of a lavatory fitting with a doubler that covers the bottom of the fitting and extends below the access hole. These lavatory fittings have an additional step (4) for accessing the bottom of the fitting to do the detailed inspection because the doubler may hide corrosion. However, the FAA disagrees that paragraph 3.A., step (3) of the Jamco service bulletin is only applicable to lavatories with no previous repairs of lavatory fittings. Step (3) of the Jamco service bulletin is applicable to all lavatories with P/N B80095( ) or B80096( ) because step (3) provides details on how to inspect the visible surfaces for corrosion. The FAA has added a new exception in paragraph (h)(4) of this AD to clarify that the detailed inspection must be accomplished using step (3) and step (4), as applicable.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Boeing Special Attention Requirements Bulletin B787-81205-SB250302-00 RB, Issue 001, dated August 21, 2024. This material specifies procedures for a detailed inspection of the eight lower fitting assemblies and the centerline partition threshold of the Jamco family 95/96 lavatories for corrosion, recording on the modification record placard, and applicable on-condition actions. On condition actions include repairing any corrosion found. This material also specifies revising the existing maintenance program to incorporate MRBR item number 25-185-00 (detailed inspection of the lavatory vertical side forward fittings for corrosion or damage).

This material is reasonably available because the interested parties have access to it through their normal course of business or by the means identified in the ADDRESSES section.

Costs of Compliance

The FAA estimates that this AD affects 159 airplanes of U.S. registry. The FAA estimates the following costs to comply with this AD:

Estimated Costs
Action | Labor cost | Parts cost | Cost per product | Cost on U.S. operators
Inspection and placard recording | 15 work-hours × $85 per hour = $1,275 per lavatory | $3,700 per lavatory | $4,975 per lavatory | Up to $4,746,150 (up to 6 lavatories per airplane).

The FAA has determined that revising the existing maintenance program takes an average of 90 work-hours per operator, although the agency recognizes that this number may vary from operator to operator. Since operators incorporate maintenance program changes for their affected fleet(s), the FAA has determined that a per-operator estimate is more accurate than a per-airplane estimate. Therefore, the FAA estimates the average total cost per operator to be $7,650 (90 work-hours × $85 per work-hour).

The FAA has received no definitive data on which to base the cost estimates for the on-condition repairs specified in this AD.

The FAA has included all known costs in its cost estimate. According to the parts manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-20-03 The Boeing Company: Amendment 39-23156; Docket No. FAA-2025-0347; Project Identifier AD-2024-00441-T.

(a) Effective Date

This airworthiness directive (AD) is effective November 6, 2025.

(b) Affected ADs

None.

(c) Applicability

This AD applies to The Boeing Company Model 787-8, 787-9, and 787-10 airplanes, certificated in any category, as identified in Boeing Special Attention Requirements Bulletin B787-81205-SB250302-00 RB, Issue 001, dated August 21, 2024, except for airplanes identified as Group 3, Configuration 1; and Group 4, Configuration 3 airplanes.

(d) Subject

Air Transport Association (ATA) of America Code 25, Equipment/furnishings.

(e) Unsafe Condition

This AD was prompted by reports of corrosion on one or more of the eight lower fitting assemblies and adjacent lavatory components on the Jamco family 95/96 lavatories. The FAA is issuing this AD to address corrosion that could cause the lavatories to break free from the lower mounts during an event with high g-forces. The unsafe condition, if not addressed, could result in potential serious injury to passengers and crew or a displaced lavatory blockage that prevents egress through the aisle and exits.

(f) Compliance

Comply with this AD within the compliance times specified, unless already done.

(g) Required Actions

Except as specified by paragraph (h) of this AD: At the applicable times specified in the “Compliance” paragraph of Boeing Special Attention Requirements Bulletin B787-81205-SB250302-00 RB, Issue 001, dated August 21, 2024, do all applicable actions identified in, and in accordance with, the Accomplishment Instructions of Boeing Special Attention Requirements Bulletin B787-81205-SB250302-00 RB, Issue 001, dated August 21, 2024.

Note 1 to paragraph (g): Guidance for accomplishing the actions required by this AD can be found in Boeing Special Attention Service Bulletin B787-81205-SB250302-00, Issue 001, dated August 21, 2024, which is referred to in Boeing Special Attention Requirements Bulletin B787-81205-SB250302-00 RB, Issue 001, dated August 21, 2024.

(h) Exceptions to Requirements Bulletin Specifications

(1) Where the “Effectivity” paragraph and the Boeing Recommended Compliance Time columns of the tables in the “Compliance” paragraph of Boeing Special Attention Requirements Bulletin B787-81205-SB250302-00 RB, Issue 001, dated August 21, 2024, refer to the Issue 001 date of Requirements Bulletin B787-81205-SB250302-00 RB, this AD requires using the effective date of this AD.

(2) Where the Boeing Recommended Compliance Time columns of the tables in the “Compliance” paragraph of Boeing Special Attention Requirements Bulletin B787-81205-SB250302-00 RB, Issue 001, dated August 21, 2024, for Condition 1, Action 1 and Action 2; and Condition 2, Action 2 and Action 3, specify modifying the record placard and incorporating Maintenance Review Board Report (MRBR) Item Number 25-185-00 “Before further flight”, this AD requires replacing that text with “Within 90 days”.

(3) Where Boeing Special Attention Requirements Bulletin B787-81205-SB250302-00 RB, Issue 001, dated August 21, 2024, specifies contacting Boeing for repair instructions, this AD requires doing the repair using a method approved in accordance with the procedures specified in paragraph (k) of this AD.

(4) Where the Method of Compliance columns in the “Accomplishment Instructions” paragraph of Boeing Special Attention Requirements Bulletin B787-81205-SB250302-00 RB, Issue 001, dated August 21, 2024, specifies doing a detailed inspection using “Paragraph 3.A. step (3)”, this AD requires replacing that text with “Paragraph 3.A. step (3) and step (4), as applicable”.

(i) No Alternative Actions and Intervals

After the existing maintenance program has been revised as required by paragraph (g) of this AD, no alternative actions (e.g., inspections) or intervals may be used unless the actions or intervals are approved as an alternative method of compliance (AMOC) in accordance with the procedures specified in paragraph (k) of this AD.

(j) Credit for Previous Inspections

For airplane lavatories with no previous repairs on which MRBR Item Number 25-185-00 was accomplished before the effective date of this AD, the inspection required by paragraph (g) of this AD is not required.

(k) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(l) Related Information

(1) For more information about this AD, contact Nicole S. Tsang, Aviation Safety Engineer, FAA, 2200 South 216th St., Des Moines, WA 98198; phone: 206-231-3959; email: Nicole.S.Tsang@faa.gov.

(2) Material identified in this AD that is not incorporated by reference is available at the address specified in paragraph (m)(3) this AD.

(m) Material Incorporated by Reference

(1) The Director of the Federal Register approved the incorporation by reference of the material listed in this paragraph under 5 U.S.C. 552(a) and 1 CFR part 51.

(2) You must use this material as applicable to do the actions required by this AD, unless the AD specifies otherwise.

(i) Boeing Special Attention Requirements Bulletin B787-81205-SB250302-00 RB, Issue 001, dated August 21, 2024.

(ii) [Reserved]

(3) For the Boeing material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on September 23, 2025.
Peter A. White,
Deputy Director, Integrated Certificate Management Division, Aircraft Certification Service.

[FR Doc. 2025-19390 Filed 10-1-25; 8:45 am]

BILLING CODE 4910-13-P